DEPARTMENT OF TRANSPORTATION

Federal Transit Administration

[FTA Docket No. FTA-2007-28452]

Agency Information Collection Activity Under OMB Review

AGENCY: Federal Transit Administration, DOT.

ACTION: Notice of request for comments.

SUMMARY: The Federal Transit Administration invites public comments about our intention to request the Office of Management and Budget's (OMB) approval to renew the following information collection: Pre-Award and Post-Delivery Review Requirements. The information to be collected for this program is necessary to certify that pre-award and post-delivery reviews will be conducted when using FTA funds to purchase revenue service vehicles. The Federal Register Notice with a 60-day comment period soliciting comments was published on April 3, 2007.

DATES: Comments must be submitted before July 13, 2007. A comment to OMB is most effective if OMB receives it within 30 days of publication.

FOR FURTHER INFORMATION CONTACT: Sylvia L. Marion, Office of Administration, Office of Management Planning, (202) 366-6680.

SUPPLEMENTARY INFORMATION: Title: Pre-Award and Post-Delivery Review Requirements (OMB Number: 2132-0544).

Abstract: Under the Federal Transit Laws, at 49 U.S.C. 5323(m), grantees must certify that pre-award and post-delivery reviews will be conducted when using FTA funds to purchase rolling stock and maintain on file these certifications. FTA implements this requirement in 49 CFR Part 663 by describing the certificates that must be submitted by each bidder to assure compliance with the Buy America contract specification and vehicle safety requirements for rolling stock. The information collected on the certification forms is necessary for FTA grantees to meet the requirements of 49 U.S.C. 5323(m).

Estimated Total Annual Burden: 3,024 hours.

ADDRESSES: All written comments must refer to the docket number that appears at the top of this document and be submitted to the Office of Information and Regulatory Affairs, Office of Management and Budget, 725 17th Street, NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued On: June 7, 2007.
Ann M. Linnertz,
Acting Associate Administrator for Administration .

[FR Doc. E7-11338 Filed 6-12-07; 8:45 am]

BILLING CODE 4910-57-P